DEPARTMENT OF HOMELAND SECURITY

Transportation Security Administration

[Docket No. TSA-2004-19515]

Extension of Agency Information Collection Activity Under OMB Review: Air Cargo Security Requirements

AGENCY: Transportation Security Administration, DHS.

ACTION: 30-day notice.

SUMMARY: This notice announces that the Transportation Security Administration (TSA) has forwarded the Information Collection Request (ICR), Office of Management and Budget (OMB) control number 1652-0040, abstracted below to OMB for review and approval of an extension of the currently approved collection under the Paperwork Reduction Act (PRA). The ICR describes the nature of the information collection and its expected burden. TSA published a Federal Register notice, with a 60-day comment period soliciting comments, of the following collection of information on December 15, 2015, 80 FR 77650. This ICR involves three broad categories of affected populations operating under a security program: Aircraft operators, foreign air carriers, and indirect air carriers. The collections of information that make up this ICR include security programs, security threat assessments (STA) on certain individuals, known shipper data via the Known Shipper Management System (KSMS), Indirect Air Carrier Management System (IACMS), and evidence of compliance recordkeeping.

DATES: Send your comments by April 18, 2016. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to oira_submission@omb.eop.gov or faxed to (202) 395-6974.

FOR FURTHER INFORMATION CONTACT: Christina A. Walsh, TSA PRA Officer, Office of Information Technology (OIT), TSA-11, Transportation Security Administration, 601 South 12th Street, Arlington, VA 20598-6011; telephone (571) 227-2062; email TSAPRA@tsa.dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Air Cargo Security Requirements.

Type of Request: Extension of a currently approved collection.

OMB Control Number: 1652-0040.

Form(s): Aviation Security Known Shipper Verification Form, Aircraft Operator or Air Carrier Reporting Template, and Security Threat Assessment Application.

Affected Public: This ICR involves regulated entities including aircraft operators, foreign air carriers, and indirect air carriers operating under a TSA-approved security program.

Abstract: TSA uses the information collected to comply with the Aviation and Transportation Security Act (ATSA) and provisions enacted as part of the Implementing Recommendations of the 9/11 Commission Act of 2007 (Pub. L. 110-53, 121 Stat. 266, Aug. 3, 2007) for the security of aircraft operators, foreign air carriers and indirect air carriers operating under a TSA-approved security program. See ATSA sec. 110 as codified at 49 U.S.C. 44901(a) and (f). TSA is seeking a revision of the collection of information.

Currently, this information collection requires aircraft operators, foreign air carriers, and indirect air carriers (IACs) to collect certain information as part of the implementation of a standard security program, to submit modifications to the standard security program to TSA for approval, and update such programs as necessary. As part of these security programs, the regulated entities must also collect personal information and submit such information to TSA so that TSA may conduct STAs on individuals with unescorted access to cargo.

Further, the collection of information requires both companies and individuals whom aircraft operators, foreign air carriers, and IACs have qualified to ship cargo on passenger aircraft, also referred to as “known shippers,” to submit information to TSA. This information is collected electronically through the KSMS.

In addition, the information collection requires that regulated entities enter into IACMS the information required from applicants requesting to be approved as IACs and the information required for their IAC annual renewal in accordance with 49 CFR 1548.7. Regulated entities must also maintain records, including records pertaining to security programs, training, and compliance to demonstrate adherence with the regulatory requirements.

TSA is revising the collection to include information from select aircraft operators and foreign air carriers operating under certain amendments to their security programs. These entities must provide to TSA detailed screening volumes and the methodology utilized to arrive at these volumes, as well as demonstrating progress toward full compliance with the cargo security measures specified in such amendments.

Number of Respondents: 209,390.

Estimated Annual Burden Hours: An estimated 74,785 hours.

Dated: March 10, 2016.
Christina A. Walsh,
TSA Paperwork Reduction Act Officer, Office of Information Technology.

[FR Doc. 2016-05979 Filed 3-16-16; 8:45 am]

BILLING CODE 9110-05-P